DEPARTMENT OF COMMERCE

Foreign-Trade Zones Board

[Order No. 1912]

Expansion of Foreign-Trade Zone 84; Houston, Texas

Pursuant to its authority under the Foreign-Trade Zones Act of June 18, 1934, as amended (19 U.S.C. 81a-81u), the Foreign-Trade Zones Board (the Board) adopts the following Order:

Whereas, the Port of Houston Authority, grantee of Foreign-Trade Zone 84, submitted an application to the Board for authority to expand FTZ 84 to include a site in Brazos County, Texas, adjacent to the Houston Customs and Border Protection port of entry (B-10-2013, docketed 1/31/2013);

Whereas, notice inviting public comment has been given in the Federal Register (78 FR 8492-8493, 2/6/2013) and the application has been processed pursuant to the FTZ Act and the Board's regulations; and,

Whereas, the Board adopts the findings and recommendations of the examiner's report, and finds that the requirements of the FTZ Act and the Board's regulations would be satisfied if subject to specific conditions;

Now, therefore, the Board hereby orders:

The application to expand FTZ 84 is approved, subject to the FTZ Act and the Board's regulations, including Section 400.13, and to the Board's standard 2,000-acre activation limit, and further subject to sunset provisions that would terminate authority on August 31, 2018, for Sites 2, 3, 5, 12, 14, 23 and 26 where no activity has occurred under FTZ procedures before that date.

Signed at Washington, DC, this August 23, 2013.
Ronald K. Lorentzen,
Acting Assistant Secretary of Commerce for Import Administration, Alternate Chairman, Foreign-Trade Zones Board.
ATTEST:
Andrew McGilvray,
Executive Secretary.

[FR Doc. 2013-21153 Filed 8-28-13; 8:45 am]

BILLING CODE 3510-DS-P